DEPARTMENT OF THE INTERIOR

Fish and Wildlife Service

Endangered and Threatened Species Permit Application

AGENCY: Fish and Wildlife Service, Interior.

ACTION: Notice of receipt of application.

The following applicant has applied for a permit amendment to conduct certain activities with endangered species. This notice is provided pursuant to section 10(c) of the Endangered Species Act of 1973, as amended (16 U.S.C. 1531, et seq.).

Permit Number TE 049738

Applicant: Third Rock Consultants, LLC., Lexington, Kentucky

The applicant requests a permit to take (collect) the following species: Indiana bat (Myotis sodalis), gray bat (M. grisescens), Virginia big-eared bat (Corynorhinus townsendii virginianus), Ozark big-eared bat (C. t. ingens), copperbelly water snake (Nerodia erythrogaster neglecta), blackside dace (Phoxinus cumberlandensis), duskytail darter (Etheostoma percnurum), relict darter (E. chienense), palezone shiner (Notropis albizonatus), pygmy madtom (Noturus stanauli), yellowfin madtom (N. flavipinnis), slender chub (Erimystax cahni), spotfin chub (Cyprinella monacha), Cumberland elktoe (Alasmidonta atropurpurea), fanshell (Cyprogenia stegaria), Cumberlandian combshell (Epioblasma brevidens), oyster mussel (E. capsaeformis), catspaw (E. obliquata obliquata), northern riffleshell (E. torulosa rangiana), pink mucket (Lampsilis abrupta), slabside pearlymussel (Lexingtonia dolabelloides), ring pink (Obovaria retusa), little-wing pearlymussel (Pegias fabula), orangefoot pimpleback (Plethobasus cooperianus), clubshell (Pleurobema clava), Cumberland pigtoe (P. gibberum), rough pigtoe (P. plenum), fat pocketbook (Potamilus capax), fluted kidneyshell (Ptychobranchus subtentum), Cumberland monkeyface (Quadrula intermedia), and Cumberland bean (Villosa trabalis). Activities are proposed for studies to identify populations of listed species and to develop methods to minimize or avoid project related impacts to those populations. The scientific research is aimed at enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who submits a written request for a copy of such documents to the following office within 30 days of the date of publication of this notice: U.S. Fish and Wildlife Service, Ecological Services Operations, 1 Federal Drive, Fort Snelling, Minnesota 55111-4056. Telephone: (612) 713-5343; Fax: (612) 713-5292.

Dated: November 29, 2001.
Charles M. Wooley,
Assistant Regional Director, Ecological Services, Region 3, Fort Snelling, Minnesota.

[FR Doc. 01-31195 Filed 12-18-01; 8:45 am]

BILLING CODE 4310-55-P